DEPARTMENT OF COMMERCE

Foreign-Trade Zones Board

[Order No. 1130]

Expansion of Foreign-Trade Zone 94; Laredo, TX

Pursuant to its authority under the Foreign-Trade Zones Act of June 18, 1934, as amended (19 U.S.C. 81a-81u), the Foreign-Trade Zones Board (the Board) adopts the following Order:

Whereas, the City of Laredo, Texas, grantee of Foreign-Trade Zone 94, submitted an application to the Board for authority to expand FTZ 94 to include a site at the Unitec Industrial Center located in Laredo (Site 6), within the Laredo Customs port of entry (FTZ Docket 7-2000; filed 3/3/00);

Whereas, notice inviting public comment was given in the Federal Register (65 FR 12970, 3/10/00) and the application has been processed pursuant to the FTZ Act and the Board's regulations; and,

Whereas, the Board adopts the findings and recommendations of the examiner's report, and finds that the requirements of the FTZ Act and Board's regulations are satisfied, and that the proposal is in the public interest;

Now, Therefore, the Board hereby orders: The application to expand FTZ 94 is approved, subject to the Act and the Board's regulations, including Section 400.28, and further subject to the Board's standard 2,000-acre activation limit.

Signed at Washington, DC, this 28th day of November 2000.
Troy H. Cribb,
Assistant Secretary of Commerce for Import Administration, Alternate Chairman, Foreign-Trade Zones Board.
Attest:
Dennis Puccinelli,
Executive Secretary.

[FR Doc. 00-31750 Filed 12-12-00; 8:45 am]

BILLING CODE 3510-DS-P